DEPARTMENT OF DEFENSE

Defense Acquisition Regulations System

48 CFR Parts 216, 225, and 252

[Docket DARS-2015-0045]

RIN 0750-AI69

Defense Federal Acquisition Regulation Supplement: Defense Contractors Performing Private Security Functions (DFARS Case 2015-D021)

Correction

In notice document 2015-32874, appearing on pages 81496-81499 in the Issue of Wednesday, December 30, 2015, make the following correction:

On page 81496, in the first column, under the heading DATES: the entry “January 29, 2016” is corrected to read “February 29, 2016”.

[FR Doc. C1-2015-32874 Filed 1-12-16; 8:45 am]

BILLING CODE 1505-01-D